DEPARTMENT OF COMMERCE

National Oceanic and Atmospheric Administration

[RTID 0648-XD659]

Pacific Fishery Management Council; Public Meetings and Hearings

AGENCY: National Marine Fisheries Service (NMFS), National Oceanic and Atmospheric Administration (NOAA), Commerce.

ACTION: Notice of public meetings, hearings, and public comment opportunities.

SUMMARY: The Pacific Fishery Management Council (Pacific Council) has begun its annual preseason management process for the 2024 ocean salmon fisheries. This document announces the anticipated dates and locations of upcoming Pacific Council meetings and public hearings hosted by the Pacific Council. See SUPPLEMENTARY INFORMATION for more information.

DATES: Council meetings are tentatively scheduled for March 5-11 (Fresno, CA) and April 6-11 (Seattle, WA) in 2024. Information will be available on the Pacific Council's website (http://www.pcouncil.org) as the Council meeting dates approach.

March 25-26, 2024: Three public hearings will be held to receive comments on the proposed 2024 ocean salmon fishery management alternatives adopted by the Pacific Council. Public hearings focusing on Washington and California salmon fisheries will occur simultaneously on March 25, 2024 and the public hearing for Oregon salmon fisheries will occur on March 26, 2024. Each public hearing will be state-specific and begin at 7 p.m. The Washington and California public hearings are tentatively scheduled to be held in-person and occur in Westport, WA and Santa Rosa, CA. The Oregon public hearing is scheduled to be held on-line. Consult the Pacific Council's website at http://www.pcouncil.org as the meeting date approaches to get the most current information, as the date, venue, and meeting format is subject to change. A summary of verbal comments heard at the hearings will be provided to the Pacific Council at its April meeting.

Written comments on the salmon management alternatives must be submitted through the Pacific Council's e-portal (https://pfmc.psmfc.org) and received by the public comment deadline which is tentatively scheduled for 5 p.m., April 2, 2024, and prior to the start of the April 2024 Council meeting. Verbal comments on the salmon management alternatives are accepted during the Council meeting consistent with the Council's April 2024 agenda dates for salmon topics. Information will be available on the Pacific Council's website (http://www.pcouncil.org) as the date for the April Council meeting approaches.

ADDRESSES: Council address: Pacific Fishery Management Council, 7700 NE Ambassador Place, Suite 101, Portland, OR 97220-1384.

FOR FURTHER INFORMATION CONTACT: Robin Ehlke, Pacific Council; telephone: (503) 820-2410.

SUPPLEMENTARY INFORMATION: These events, combined with the previous notice of public meetings and availability of reports published in November 2023 (88 FR 80275) comprise the Pacific Council's complete schedule for determining the annual proposed and final modifications to ocean salmon fishery management measures. The meeting notices and agendas for the March and April 2024 Pacific Council meetings will be published in subsequent Federal Register documents prior to the actual meetings.

For public meetings held online, specific meeting information, including instructions on how to join the meeting and system requirements will be provided in meeting announcements on the Pacific Council's website (see www.pcouncil.org). You may send an email to Mr. Kris Kleinschmidt (kris.kleinschmidt@noaa.gov) or contact him at (503) 820-2412 for technical assistance.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: February 7, 2024.
Rey Israel Marquez,
Acting Deputy Director, Office of Sustainable Fisheries, National Marine Fisheries Service.

[FR Doc. 2024-02867 Filed 2-12-24; 8:45 am]

BILLING CODE 3510-22-P